DEPARTMENT OF HEALTH AND HUMAN SERVICES

Statement of Organization, Functions, and Delegations of Authority

Part A, Office of the Secretary, Statement of Organization, Function, and Delegation of Authority for the U.S. Department of Health and Human Services is being amended at Chapter AC, Office of the Assistant Secretary for Health (OASH), as amended at 72 FR 58095-96, dated October 1 2, 2007; 69 FR 660-661, dated January 6, 2004; 68 FR 70507-10, dated December 18, 2003; 67 FR 71568, dated December 2, 2002; 75 FR 53304-05, dated August 31, 2010; and most recently at 77 FR 30005-07 dated May 21, 2012 and 77 FR 60996, dated October 5, 2012. This amendment reflects the realignment of personnel oversight, administration and management functions for the Office of the Surgeon General and the U.S. Public Health Service (PHS) Commissioned Corps in the OASH. Specifically, this notice establishes the Office of Commissioned Corps Headquarters (CCHQ) within the Office of the Surgeon General (OSG) and deletes the Division of Systems Integration and the Division of Science and Communications.

The changes are as follows:

I. Under Part A, Chapter AC, under the Office of the Assistant Secretary for Health, make the following changes:

A. Under Section ACM.00 Mission, delete “(7) Maintaining and overseeing activities of the Volunteer Medical Reserve Corps program (42 U.S.C. 300hh).”

B. Under Section ACM.10, Organization, delete the following components “Division of Science and Communications, Division of Commissioned Corps Personnel and Readiness, and Division of Systems Integration”.

C. Under Section ACM.10, Organization, add “Commissioned Corps Headquarters”.

D. Under Section ACM.20 Functions replace the entire section with:

Section ACM .20 Functions: (a) Office of the Surgeon General (ACM): (1) Advises the Assistant Secretary for Health (ASH) on matters relating to protecting and advancing the public health of the Nation; (2) Manages special deployments that address Presidential and Secretarial initiatives directed toward resolving critical public health problems; (3) Serves, as requested, as the spokesperson on behalf of the Secretary and the ASH, addressing the quality of public health practice on the Nation; (4) Provides administrative and management support to Public Health Reports; (5) Provides supervision of activities relating to the day-to-day management of operations, training, force readiness, and deployment of officers of the PHS Commissioned Corps; (6) Provides advice to the ASH on the policies and implementation related to the appointment, promotion, recognition, professional development, retirement, and other matters required for the efficient management of the Commissioned Corps; (7) Provides liaison with governmental and non-governmental organizations on matters pertaining to military and veterans affairs; (8) Supports the Surgeon General's mandate to bring focused attention and up-to-date scientific and evidence-based data and information concerning matters of health and science to federal and non-federal stakeholders in the general public; (9) Directs and oversees internal office management (including programmatic assessments and evaluations) and administrative operations (including proposing office budgets); and (10) Convenes periodic meetings of the Assistant Surgeon Generals (flag officers) to obtain senior level advice concerning the management of Corps' operations.

(b) Commissioned Corps Headquarters (ACM 2), under the leadership of the Office Director, who reports to the Office of the Surgeon General, provides staff support for executing the mission of the U.S. Public Health Service Commissioned Corps: protect, promote, and advance the health and safety of our Nation. As America's uniformed service of public health professionals, the Commissioned Corps achieves its mission through: (1) Rapid and effective response to public health needs, (2) Leadership and excellence in public health practices, and (3) Advancement of public health science. The Office of Commissioned Corps Headquarters: (1) Provides overall management of Commissioned Corps personnel including active duty Regular Corps, Ready Reservists and of those issues and PHS processes pertinent to retired Corps officers; (2) Develops, issues, implements and maintains all personnel policy issuances and directives related to Corps operations, personnel, training, readiness, assignment, deployment, promotion, and retirement (including publication of such policy in the electronic Commissioned Corps Issuance System (eCCIS)); (3) Manages the process for disciplinary actions and decisions involving Corps officers; (4) Ensures the appropriate exercise of delegated Commissioned Corps authorities and responsibilities; (5) Establishes precepts for appointment, promotion, assimilation, retirement, fitness for duty, awards and commendations, discipline, grievance, and other such matters; (6) With respect to Board of Inquiry (BOI) disciplinary proceedings, ensures documentation of board proceedings, preparation of correspondence to applicants and officers, and timely and accurate advice and assistance to Board members and other support as required; (7) Conducts force planning, including working with agencies, and advises OSG and ASH on Commissioned Corps strategic long-term readiness planning; (8) Maintains liaison with all other relevant Federal Services as appropriate, including with components of the Departments of Defense and Veterans Affairs; (9) Coordinates as appropriate to seek Departmental legal advice, assistance, and legislative support; (10) Advises the OSG on mission nature, size, duration and usage of Regular Corps and Ready Reserve officers; (11) Serves as a central point of contact and prepares necessary communications for all Corps Agency Liaison Offices; (12) Oversees the determination of fitness-for-duty and disability evaluations; and oversees Line of Duty determinations of the evaluation and issuance of medical waivers; (13) Manages and processes compensation and healthcare claims for members of the Corps; and administers the Service members' Group Life Insurance and Traumatic Serviceman's Group Life Insurance Programs; (2 (13)) Serves as the principal advisor to the SG on activities and policy related to preparedness, Corps activation, training, deployment operations and total force fitness of the Corps; (14) Leads and manages the Corps readiness and response activities to include establishing, maintaining and ensuring compliance with force readiness standards; ensuring that members of the Corps are trained, equipped and otherwise prepared to fulfill their public health and emergency response roles; and managing the timely, effective and appropriate response to urgent or emergency public health care needs; (15) Conducts after-action assessments and evaluations for the SG and ASH pertaining to the use of the Corps for deployment and other non-routine use of officers; and (16) Manages and maintains Commissioned Corps officer records; and provides oversight and management of information systems development, integration, and data analytics activities in support of the management of the Commissioned Corps.

Delegations of Authority. Directives and orders of the Secretary, Assistant Secretary for Health, or Surgeon General and all delegations and re-delegations of authority previously made to officials and employees of the affected organizational components will continue in them or their successors pending further re-delegation, provided they are consistent with this reorganization. All delegated authorities associated with or necessary to administer, operate, and manage transferred entities affected by this reorganization are transferred to the Assistant Secretary for Health and may be re-delegated.

Alex M. Azar II,
Secretary.

[FR Doc. 2019-00955 Filed 2-4-19; 8:45 am]

BILLING CODE 4150-49-P